ENVIRONMENTAL PROTECTION AGENCY

40 CFR Part 300

[FRL-6525-3]

National Oil and Hazardous Substances Pollution Contingency Plan National Priorities List

AGENCY: Environmental Protection Agency.

ACTION: Direct final deletion of the Renora, Inc., Superfund Site from the National Priorities List.

SUMMARY: The United States Environmental Protection Agency (EPA) Region II Office announces the deletion of the Renora, Inc., Site from the National Priorities List (NPL) and requests public comment on this action. The NPL constitutes appendix B of 40 CFR part 300, which is the National Oil and Hazardous Substances Pollution Contingency Plan (NCP), which EPA promulgated pursuant to section 105 of the Comprehensive Environmental Response, Compensation and Liability Act of 1980 (CERCLA), as amended. EPA and the New Jersey Department of Environmental Protection (NJDEP) have determined that all appropriate response actions under CERCLA have been implemented at the Site to protect human health and the environment.

DATES: This “direct final” action will be effective March 20, 2000 unless EPA receives significant adverse or critical comments by February 18, 2000. If written significant adverse or critical comments are received, EPA will publish a timely withdrawal of the rule in the Federal Register, informing the public that the rule will not take effect.

ADDRESSES: Comments may be mailed to: Grisell Díaz-Cotto, Remedial Project Manager, U.S. Environmental Protection Agency, Region II, 290 Broadway-19th Floor, New York, NY 10007-1866.

Comprehensive information on this Site is available for viewing at the Renora, Inc., Site information repositories at the following locations:

Edison Township Public Library, 340 Plainfield Avenue, Edison, New Jersey 08817, (732) 287-2298;

and

U.S. EPA Records Center, 290 Broadway—18th Floor, New York, New York 10007-1866, Hours: 9:00 am to 5:00 pm—Monday through Friday, Contact: Superfund Records Center (212) 637-4308.

FOR FURTHER INFORMATION CONTACT: Grisell Díaz-Cotto, Remedial Project Manager, U.S. Environmental Protection Agency, Region II, 290 Broadway—19th Floor, New York, New York 10007-1866, (212) 637-4430.

SUPPLEMENTARY INFORMATION:

Table of Contents

I. Introduction

II. NPL Deletion Criteria

III. Deletion Procedures

IV. Basis for Intended Site Deletion

V. Action

I. Introduction

The United States Environmental Protection Agency Region II announces the deletion of the Renora, Inc., Site (the “Site”), which is located in Edison Township, Middlesex County, New Jersey, from the National Priorities List (NPL), which constitutes appendix B of the National Oil and Hazardous Substance Pollution Contingency Plan (NCP), 40 CFR part 300, and requests comments on this deletion. EPA identifies sites that appear to present a significant risk to public health, welfare, or the environment and maintains the NPL as the list of these sites. Pursuant to 40 CFR 300.425(e) of the NCP, any site or portion of a site deleted from the National Priorities List remains eligible for Fund-financed remedial actions if future conditions at the site warrant such action.

EPA will accept comments, concerning this document, for thirty days after publication of this document in the Federal Register.

Section II of this document explains the criteria for deleting sites from the NPL. Section III discusses the procedures that EPA is using for this action. Section IV discusses the Renora, Inc., Site and explains how the Site meets the deletion criteria.

II. NPL Deletion Criteria

As described in § 300.425(e)(3) of the NCP, sites may be deleted from the NPL where no further response is appropriate. In making a determination to delete a site from the NPL, EPA, in consultation with the New Jersey Department of Environmental Protection (NJDEP), shall consider whether any of the following criteria have been met:

(i) Responsible parties or other persons have implemented all appropriate response actions required;

(ii) All appropriate responses under CERCLA have been implemented, and no further response action by responsible parties is appropriate; or

(iii) The remedial investigation has shown that the release poses no significant threat to public health or the environment and, therefore, taking of remedial measures is not appropriate.

Deletion of a site from the NPL does not preclude eligibility for subsequent Fund-financed actions at the Site if future Site conditions warrant such actions. Section 300.425(e)(3) of the NCP provides that Fund-financed actions may be taken at sites that have been deleted from the NPL. Further, deletion of a site from the NPL does not affect the liability of responsible parties or impede Agency efforts to recover costs associated with response efforts.

III. Deletion Procedures

The following procedures were used for the intended deletion of this Site: (1) EPA Region II issued a Record of Decision (ROD) on September 28, 1987, and a ROD Amendment on September 30, 1994, which identified the appropriate remedial actions to be undertaken at the Site; (2) Potentially responsible parties completed all remedial actions; (3) EPA Region 2 determined in a Site Close-Out Report dated September 30, 1996, that all construction activities were completed; (4) The NJDEP concurred with the proposed deletion in a letter dated July 8, 1998; (5) A notice has been published in the local newspaper and has been distributed to appropriate federal, state and local officials and other interested parties announcing a 30-day dissenting public comment period on EPA's Direct Final action to delete; and (6) EPA Region II recommends deletion and has made all relevant documents available for public review in the local Site information repositories.

EPA is requesting only dissenting comments on the Direct Final action to delete. The NCP provides that EPA shall not delete a site from the NPL until the public has been afforded an opportunity to comment on the proposed deletion.

Deletion of sites from the NPL does not itself create, alter, or revoke any individual's rights or obligations. The NPL is designed primarily for informational purposes and to assist Agency management of Superfund sites. As mentioned in section II of this document, § 300.425 (e)(3) of the NCP states that the deletion of a site from the NPL does not preclude eligibility for future response actions.

EPA's Regional Office will accept and evaluate public comments before making a final decision to delete. If appropriate, the Agency will prepare a Responsiveness Summary to address any significant public comments received.

If EPA does not receive significant adverse or critical comments and/or any significant new data submitted during the comment period, the site will be deleted from the NPL, effective March 20, 2000.

IV. Basis for Intended Site Deletion

The following summary provides the Agency's rationale for the proposal to delete this Site from the NPL.

A. Site Background

The Renora, Inc., Site is located at 83 South Main Street in the Bonhamtown section of Edison Township, Middlesex County, New Jersey. The Site occupies approximately one acre of the total property owned by the Clementi Brothers, Inc., and is surrounded by a chain link fence with locking gates. The Clementi property is bordered by Mill Brook to the north, the New Jersey Turnpike to the south, Main Street to the east and a Conrail right-of-way to the west. Land use in the vicinity of the Site is primarily light industrial and residential. The Site is currently zoned for commercial use.

B. History

Renora, Inc., operated at the Site from 1978 until 1982, transporting and accepting materials containing hazardous substances for transfer, storage and blending. Contamination of the Site occurred as a result of spills during the transfer and blending of hazardous substances, and container leaks from the accumulated wastes.

EPA placed the Site on the National Priorities List on September 9, 1983. In 1984, under EPA oversight, the potentially responsible parties (PRPs) removed all containers, contents, and visibly contaminated soil from the Site. In 1987, the PRPs completed a Remedial Investigation/Feasibility Study (RI/FS) to determine the nature and extent of contamination at the Site and to develop and evaluate remedial alternatives for the Site.

A ROD for the site was signed on September 28, 1987. The selected remedy included the following components: excavation and off-site disposal of all polychlorinated biphenyl (PCB) contaminated soils with concentrations above 5 parts per million (ppm); bioremediation of all polynuclear aromatic hydrocarbon (PAH) contaminated soils with concentrations above 10 ppm, using ground water as an irrigation medium in the bioremediation treatment system; and backfilling, grading and vegetation of the Site. The PCB soil excavation and site restoration phase of the selected remedy was completed by the PRPs in January 1989 and a final remedial action report for this phase of the cleanup was approved by EPA in 1990.

In 1990, treatability studies on the PAH-contaminated soils indicated that bioremediation was not effective in reducing the PAH concentrations. A Phase II FS and risk assessment were performed, which concluded that PAH-contaminated surface soils were the only remaining medium of concern at the Site. Therefore, a modified remedy was identified to address the PAH-contaminated surface soils.

Based on these findings, EPA issued a ROD Amendment on September 30, 1994, documenting the selection of a modified remedy for the Site. The major components of the modified remedy were: excavation and off-site disposal of the top two feet of surface soils and any debris from the entire site to an EPA-approved landfill; backfilling the Site with clean fill; and grading and vegetation of the Site. Excavation activities were completed in October 1995 by the PRPs. Backfilling and vegetating were completed in Spring 1996. A final inspection was conducted at the Site in April 1996. The PRPs' final remedial action report was approved by EPA in August 1996. EPA prepared a Site Close-Out Report documenting the completion of construction activities at the Site in September 1996.

Having met the deletion criteria, EPA proposes to delete this site from the NPL. EPA and NJDEP have determined that the response actions conducted to date are protective of human health and the environment.

C. Community Relations Activities

Public meetings were held during 1987 and 1994 prior to issuance of the ROD and ROD Amendment for the Site. Public comments were received and addressed in the Responsiveness Summaries appended to the ROD and ROD Amendment. Regular Site updates were mailed to area residents to keep them informed about Site activities. In addition, local officials were kept apprised of Site progress.

D. Monitoring

The following analyses were performed to confirm compliance with the remedial action objectives:

• PCB contaminated soils were excavated to a depth of four feet. All excavated soils were stockpiled into separate piles and sampled for PCB content. Those soils exhibiting PCB concentrations less than 5 ppm were left on site; those exhibiting PCB concentrations greater than or equal to 5 ppm were disposed of off-site at an EPA approved landfill, Wayne Disposal, Inc., in Belleville, Michigan. Post-excavation samples were then collected from all areas where contaminated soils were removed. Additional rounds of excavation and post-excavation sampling were conducted until the cleanup level was achieved in all areas of concern.

• Once all excavation activities were completed in 1995, the Site was surveyed to ensure that the top two feet of soil had been excavated from the entire Site. Following backfilling, the Site was graded to match the original Site grading.

• A rigorous testing regime was established to ensure that the clean backfill material and topsoil were suitable for use at the Site. Prior to approval for use by EPA and NJDEP, the fill and topsoil were analyzed for total petroleum hydrocarbons, total cyanide, pesticides, PCBs, metals, and semi-volatile and volatile organic compounds.

E. Operation and Maintenance

Since the remedy involved the removal of contaminated soils from the site, there are no operation and maintenance requirements. However, two quarterly site inspections were performed following the completion of the remedial action to determine if there were any erosion of the clean fill or problems with growth of vegetation. Since no problems were observed, no further quarterly inspections were planned.

Although EPA's ROD, as amended, did not require institutional controls, NJDEP independently required that the Site owner place a Declaration of Environmental Restrictions (DER) on the Site which states that the owner and operators shall not excavate, nor allow to be excavated, subsurface soils beyond a depth exceeding five feet. This DER shall remain in effect until terminated by NJDEP.

F. Protectiveness

All the completion requirements for this Site have been met as specified in the Office of Solid Waste and Emergency Response Directive “Close Out Procedures for National Priorities List Sites”. Contaminated Site soils were remediated as directed in the 1987 ROD and the 1994 ROD Amendment. Confirmatory sampling of the clean fill provided further assurance that the Site no longer poses a threat to human health or the environment.

EPA and NJDEP have determined that all appropriate Fund-financed responses under CERCLA at the Renora, Inc., Site have been completed, and that no further cleanup by responsible parties is expected. Consequently, EPA is proposing deletion of this Site from the NPL. Documents supporting this action are available in the docket.

V. Action

The remedy selected for this Site has been implemented in accordance with the Record of Decision. Therefore, no further response action is necessary. The remedy has resulted in the significant reduction of the long-term potential for release of contaminants, therefore, human health and potential environmental impacts have been minimized. EPA and the State of New Jersey find that the remedy implemented continues to provide adequate protection of human health and the environment.

The State of New Jersey concurs with EPA that the criteria for deletion of the release have been met. Therefore, EPA is deleting the Site from the NPL.

This action will be effective March 20, 2000. However, if EPA receives dissenting comments before or on February 18, 2000, EPA will publish a document that withdraws this action.

List of Subjects in 40 CFR Part 300

Environmental protection, Air pollution control, Chemicals, Hazardous substances, Hazardous waste, Intergovernmental relations, Penalties, Reporting and recordkeeping requirements, Superfund, Water pollution control, Water supply.

Dated: January 3, 2000.
William J. Muszynski,
Acting Regional Administrator, Region 2.

Part 300, Title 40 of Chapter 1 of the Code of Federal Regulations is amended as follows:

Part 300—[AMENDED]

1. The authority citation for Part 300 continues to read as follows:

Authority: 42 U.S.C. 9601-9657; 33 U.S.C. 1321(c)(2); E.O. 12777, 56 FR 54757, 3 CFR, 1991 Comp.; p. 351; E.O. 12580, 52 FR 2923, 3 CFR, 1987 Comp.; p. 193.

Appendix B—[Amended]

2. Table 1 of appendix B to part 300 is amended by removing the entry for Renora, Inc. site, Edison Township, New Jersey.

[FR Doc. 00-1089 Filed 1-18-00; 8:45 am]

BILLING CODE 6560-50-P